DEPARTMENT OF COMMERCE

National Oceanic and Atmospheric Administration

50 CFR Part 622

[I.D. 061900E]

Caribbean Fishery Management Council; Public Hearings

AGENCY: National Marine Fisheries Service (NMFS), National Oceanic and Atmospheric Administration (NOAA), Commerce.

ACTION: Notice of public hearings.

SUMMARY: The Caribbean Fishery Management Council will hold a series of public hearings in Puerto Rico and the U.S. Virgin Islands on Draft Amendment 1 to the Fishery Management Plan for Queen Conch Resources of Puerto Rico and the U.S. Virgin Islands (FMP). The objectives of Amendment 1 are to address the issues of overfishing of the queen conch resource and apparent resource declines and to collect additional fishery information necessary for improved management.

DATES: The Council will accept written comments on the draft Amendment 1 through July 31, 2000. The public hearings will be held July 10-26, 2000. See SUPPLEMENTARY INFORMATION for specific dates, times, and locations of the public hearings.

ADDRESSES: Written comments should be sent to Miguel A. Rolon, Executive Director, Caribbean Fishery Management Council, 268 Munoz Rivera Avenue, Suite 1108, San Juan, Puerto Rico, 00918-2577. The Council's telephone number is (787) 766-5926. Copies of draft Amendment 1 and an executive summary will be available at the hearings or may be obtained from the Council at preceding address. See SUPPLEMENTARY INFORMATION for specific hearing locations.

FOR FURTHER INFORMATION CONTACT: Contact Miguel A. Rolon, Executive Director, or Graciela Garcia-Moliner, FMP and Habitat Specialist, Caribbean Fishery Management Council, 268 Munoz Rivera Avenue, Suite 1108, San Juan, Puerto Rico, 00918-2577. The Council's telephone number is (787) 766-5926. E-mail addresses are Miguel.A.Rolon@noaa.gov or Graciela.Garcia-Moliner@noaa.gov.

SUPPLEMENTARY INFORMATION:

Management Measures

The Caribbean Fishery Management Council will hold a series of public hearings in Puerto Rico and the U.S. Virgin Islands to obtain input from fishers and the general public on the following draft Amendment 1 alternative management measures (corresponding draft Amendment 1 sections are referenced):

Alternative 1 (section 5.1 -Preferred Alternative): Prohibit the harvest and possession of queen conch in the exclusive economic zone (EEZ);

Alternative 2 (section 5.2): Prohibit the harvest and possession of queen conch by recreational fishers in the EEZ;

Alternative 3 (section 5.3): Prohibit the harvest of queen conch in the EEZ by all fishers using SCUBA gear;

Alternative 4 (section 5.4): Prohibit the harvest of queen conch in the EEZ by recreational fishers using SCUBA;

Alternative 5 (section 5.5): Establish a permit for queen conch for fishers and dealers.

Alternative 6 (section 5.6): Establish a limited entry system for queen conch fishers;

Alternative 7 (section 5.7): Establish a trip limit for commercial fishers of 100 pounds (45.4 kg) of queen conch meat per vessel per trip, and not more than 300 pounds (136.1 kg) per week for each vessel;

Alternative 8 (section 5.8): Establish a trip limit of 150 queen conch per commercial fisher per trip;

Alternative 9 (section 5.9): Change the dates for the annual closed harvest season for queen conch from July 1- September 30 to July 1-October 31 of each consecutive year;

Alternative 10 (section 5.10): Change the dates for the annual closed harvest season for queen conch from July 1-September 30 to June 1-September 30 of each consecutive year;

Alternative 11 (section 5.11): Change the current annual closed harvest season for queen conch from the 3-month period of July 1-September 30 to a 4-month period (could be two separate sub-periods) other than those under Alternatives 9 and 10; and

Alternative 12 (section 5.12): No management action taken.

Time and Location for Public Hearings

Public hearings for the draft Amendment 1 will be held at the following dates, times, and locations:

1. Monday, July 10, 2000—Travelodge Hotel, Isla Verde Avenue, Isla Verde, Puerto Rico, from 7 p.m. to 10 p.m.;

2. Tuesday, July 11, 2000—Asociacion de Pescadores la Villa del Ojo, Bo. Borinquen, Sector Crash Boat, Aguadilla, Puerto Rico, from 7 p.m. to 10 p.m.;

3. Wednesday, July 12, 2000—Villa Parguera Hotel, Carr. 304, Km. 3.3, La Parguera, Lajas, Puerto Rico, from 7 p.m. to 10 p.m.;

4. Thursday, July 13, 2000—Reserva Estuarina Bahia de Jobos, Carr. 705, Km. 2.3, Main Street, Aguirre, Puerto Rico, from 2 p.m. to 5 p.m.;

5. Tuesday, July 18, 2000—Holiday Inn, Veterans Drive, Charlotte Amalie, St. Thomas, U.S.V.I., from 7 p.m. to 10 p.m.; 6. Wednesday, July 19, 2000—Legislature Building, Hilltop building, Cruz Bay, St. John, U.S.V.I., from 7 p.m. to 10 p.m.;

7. Thursday, July 20, 2000—Caravelle Hotel, 44A Queen Cross St., St. Croix, U.S.V.I., from 7 p.m. to 10 p.m.;

8. Wednesday, July 26, 2000—Maries Restaurant, Rd. #3, Km. 70.3, Punta Santiago, Humacao, Puerto Rico, from 7 p.m. to 10 p.m.;

Special Accommodations

These meetings are physically accessible to people with disabilities. For more information or request for sign language interpretation and other auxiliary aids, please contact Mr. Miguel A. Rolon, Executive Director, Caribbean Fishery Management Council, 268 Munoz Rivera Avenue, Suite 1108, San Juan, Puerto Rico, 00918-2577, telephone (787) 766-5926, at least 5 days prior to the meeting date.

Dated: June 26, 2000.
Bruce Morehead,
Acting Director, Office of Sustainable Fisheries, National Marine Fisheries Service.

[FR Doc. 00-16637 Filed 6-29-00; 8:45 am]

BILLING CODE 3510-22-F